DEPARTMENT OF ENERGY

Federal Energy Regulatory Commission

[Project No. 2661-012]

Pacific Gas and Electric Company; Notice of Availability of Final Environmental Assessment

September 20, 2001.

In accordance with the National Environmental Policy Act of 1969 and the Federal Energy Regulatory Commission's (Commission) regulations, 18 CFR part 380 (Order No. 486, 52 FR 47897), the Office of Energy Projects staff has reviewed the application for new license for the Hat Creek Hydroelectric Project located on Hat Creek, near the town of Cassel, in Shasta County, California, and has prepared a final Environmental Assessment (EA) for the project. About 6.57 acres of the project occupy federal lands, managed by the U.S. Forest Service as part of the Shasta National Forest. In the final EA, the Commission's staff has analyzed the potential environmental impacts of the existing project and has concluded that approval of the project, with appropriate environmental protection measures, would not constitute a major federal action significantly affecting the quality of the human environment.

On August 29, 2000, the Commission staff issued a draft EA for the project, and requested that comments be filed with the Commission within 45 days. Comments were filed by seven entities and are addressed in this final EA for this project.

Copies of the draft and final EA can be viewed at the Commission's Reference and Information Center, Room 2A, 888 First Street, NE., Washington, DC, 20426, or by calling 202-208-1371. Copies of the EA are on file with the Commission and are available for public inspection. The EA may also be viewed on the web at http://www.ferc.gov using the “RIMS” link, select “Docket#” and follow the instructions (call 202-208-2222 for assistance).

David P. Boergers,
Secretary.

[FR Doc. 01-24015 Filed 9-25-01; 8:45 am]

BILLING CODE 6717-01-P